DEPARTMENT OF TRANSPORTATION

Federal Motor Carrier Safety Administration

[Docket No. FMCSA-2015-0047]

Qualification of Drivers; Exemption Applications; Vision

AGENCY: Federal Motor Carrier Safety Administration (FMCSA), DOT.

ACTION: Notice of denials.

SUMMARY: FMCSA announces its denial of 97 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 97 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following applicant, Douglas R. Yurek, did not have sufficient driving experience over the past three years under normal highway operating conditions.

The following 22 applicants had no experience operating a CMV:

James D. Bakken

Travis D. Bartholomy

Scott R. Beaulieu

Michael Carter

Stephen J. Cossalter

Michael T. Long-Grant

Richard J. March

Kevin L. McLeod

Christopher R. Mehaffey

Cole W. Mogannam

Marcus M. Noble

Adam J. O'Dell

Mojeed K. Okedara

Torrence R. Perry

Randall T. Petersheim

Sunni R. Ross

Stevo Saric

Richard Shadrick

Kevin Usher

Brian Washington

Trent Weatherford

John R. Weitekamp

The following 24 applicants did not have three years of experience driving a CMV on public highways with their vision deficiencies:

Paul D. Ashwood, Sr.

Juan Bekusus

Dale Carter

Ronald T. Dell, Jr.

Charles J. Dobson

Lauren D. Gay

Derk J. Gerritsen

David D. Gillis

Russell C. Gordon

Jeffrey J. Graham

Ernesto Herrera

Alan J. Horn

Peter A. Kaczor

Charles F. Kiefat

Chad W. Klein

Ronald L. Kuhle

Stephen C. Linardos

Cody N. McDonnell

Joseph McKinney

Kenneth G. McLeod

Shaun O. McMahon

Reymundo Rodriguez

Gregory D. Sheldon

Terry P. Tyler, Jr.

The following six applicants did not have three years of recent experience driving a CMV with the vision deficiency:

Darrel Tchida

Joshua H. Boatright

George Patterson

Travis D. Nye

Onoride S. Ogbotor

Gary L. Vanosdel

The following applicant, Clifton J. Barnes, did not have sufficient driving experience during the past three years under normal highway operating conditions:

The following applicant, Donald R. Lewis, Jr., had more than two commercial motor vehicle violations during the three-year period and/or application process. Each applicant is only allowed two moving violations.

The following three applicants had their CDLs suspended in relation to a moving violation during the three-year period. Applicants do not qualify for an exemption with a suspension during the three-year period:

Daryl Wojcik

Angel Marrero

Dyvon Small

The following two applicants were unable to obtain a statement from an optometrist or ophthalmologist stating that he was able to operate a commercial vehicle from a vision standpoint:

George A. Kaiser

Alejandro Huerta

The following six applicants were denied for miscellaneous/multiple reasons:

Gill T. Thompson

Anthony E. Allegra

David W. Nicholson

Billy Bailey

Robert K. Lowe, Jr.

Bayardo A. Ordenana

The following applicant, Anthony Buisseteth, did not have stable vision for the entire three-year period.

The following three applicants never submitted the documents required for a vision exemption:

Israel Resto

Edward Labounty, II

Harry Rowlinson, Jr.

The following 14 applicants met the current federal vision standards. Exemptions are not required for applicants who meet the current regulations for vision:

Robert W. Enevold

Keith E. Dugger

Marvin R. Roetcisoender

Robert Williams

Kevin L. Byrd

Dallas Lahman

Brad Koenig

Raymond Banks

Ernest F. Salas

Matthew D. Kaaz

Patrick J. McHugh

Timothy W. Carr

Savuth Pich

Elias P. Raymundo

The following applicant, Dale A. Briggs, Jr., held a medical card that was valid for less than six months.

The following nine applicants were denied because they will not be driving interstate, interstate commerce, or are not required to carry a DOT medical card:

Richard M. Schulman

Mike Nenovich

Lester Walker

Javier F. Gonzalez

Wayne G. Howard

Luis E. Abreu

Roger McGrath

William D. Greenwell

Joseph J. Gelfo

Finally, the following three applicants perform transportation for the federal government, state, or any political sub-division of the state.

Angel Rosado

Charles Severson

Roy L. March

Issued on: April 30, 2015.
Larry W. Minor,
Associate Administrator for Policy.

[FR Doc. 2015-10604 Filed 5-5-15; 8:45 am]

BILLING CODE 4910-EX-P